DEPARTMENT OF ENERGY

Federal Energy Regulatory Commission

Combined Notice of Filings #1

Take notice that the Commission received the following exempt wholesale generator filings:

Docket Numbers: EG24-166-000.

Applicants: North Fork Solar Project, LLC.

Description: North Fork Solar Project, LLC submits Notice of Self-Certification of Exempt Wholesale Generator Status.

Filed Date: 4/19/24.

Accession Number: 0240419-5246.

Comment Date: 5 p.m. ET 5/10/24.

Take notice that the Commission received the following electric rate filings:

Docket Numbers: ER06-613-000; ER06-613-012.

Applicants: ISO New England Inc., New England Power Pool.

Description: ISO New England Inc. and New England Power Pool Submit semi-annual compliance report re forward reserve market with a motion to terminate.

Filed Date: 4/18/24.

Accession Number: 20240418-5320.

Comment Date: 5 p.m. ET 5/9/24.

Docket Numbers: ER24-1763-001.

Applicants: FRP Tupelo Solar, LLC.

Description: Tariff Amendment: Cost-Based PPA with Seminole Electric Coop., Inc. (ER24-1763-) Amend Metadata to be effective 8/15/2024.

Filed Date: 4/22/24.

Accession Number: 20240422-5138.

Comment Date: 5 p.m. ET 5/13/24.

Docket Numbers: ER24-1780-000.

Applicants: Lake Erie Connector Transmission, LLC.

Description: Lake Erie Connector Transmission, LLC submits a Request for Order Confirming Negotiated Rate Authority and waiver of previously granted reporting requirements.

Filed Date: 4/12/24.

Accession Number: 20240412-5378.

Comment Date: 5 p.m. ET 5/3/24.

Docket Numbers: ER24-1803-000.

Applicants: PJM Interconnection, L.L.C.

Description: § 205(d) Rate Filing: Implementation of Capacity Market Rules Applicable to DER Under Order No. 2222 to be effective 7/1/2023.

Filed Date: 4/22/24.

Accession Number: 20240422-5081.

Comment Date: 5 p.m. ET 5/13/24.

Docket Numbers: ER24-1804-000.

Applicants: Clearwater Wind III, LLC.

Description: Baseline eTariff Filing: Clearwater Wind III, LLC Application for Market-Based Rate Authorization to be effective 6/22/2024.

Filed Date: 4/22/24.

Accession Number: 20240422-5133.

Comment Date: 5 p.m. ET 5/13/24.

Docket Numbers: ER24-1805-000.

Applicants: ISO New England Inc., New England Power Company.

Description: § 205(d) Rate Filing: ISO New England Inc. submits tariff filing per 35.13(a)(2)(iii: NEP; Filing of Revisions to Schedule 20A-NEP to be effective 5/1/2024.

Filed Date: 4/22/24.

Accession Number: 20240422-5165.

Comment Date: 5 p.m. ET 5/13/24.

Docket Numbers: ER24-1806-000.

Applicants: Tri-State Generation and Transmission Association, Inc.

Description: § 205(d) Rate Filing: Initial Filing of Letter Agreement Related to Last Hour to be effective 4/30/2024.

Filed Date: 4/22/24.

Accession Number: 20240422-5166.

Comment Date: 5 p.m. ET 5/13/24.

Docket Numbers: ER24-1807-000.

Applicants: Consolidated Edison Company of New York, Inc.

Description: § 205(d) Rate Filing: Combined RDM Update and Idlewild Cost Recovery 4-2024 to be effective 4/22/2024.

Filed Date: 4/22/24.

Accession Number: 20240422-5182.

Comment Date: 5 p.m. ET 5/13/24.

Docket Numbers: ER24-1808-000.

Applicants: ISO New England Inc., England Power Company.

Description: § 205(d) Rate Filing: ISO New England Inc. submits tariff filing per 35.13(a)(2)(iii: NEP; Filing of Revisions to Schedule 21-NEP to be effective 5/1/2024.

Filed Date: 4/22/24,

Accession Number: 20240422-5188.

Comment Date: 5 p.m. ET 5/13/24.

Docket Numbers: ER24-1809-000.

Applicants: AEP Texas Inc.

Description: § 205(d) Rate Filing: AEPTX-Oncor Carbon Facilities Development Agreement to be effective 4/5/2024.

Filed Date: 4/22/24.

Accession Number: 20240422-5197.

Comment Date: 5 p.m. ET 5/13/24.

Docket Numbers: ER24-1810-000.

Applicants: FirstEnergy Pennsylvania Electric Company, PJM Interconnection, L.L.C.

Description: § 205(d) Rate Filing: FirstEnergy Pennsylvania Electric Company submits tariff filing per 35.13(a)(2)(iii: FE PA submits Amended IA, SA No. 4161 re: FirstEnergy Reorganization to be effective 1/1/2024.

Filed Date: 4/22/24.

Accession Number: 20240422-5201.

Comment Date: 5 p.m. ET 5/13/24.

Docket Numbers: ER24-1811-000.

Applicants: AEP Texas Inc.

Description: § 205(d) Rate Filing: AEPTX-BRP Antlia BESS 3rd Amended Generator Interconnection Agreement to be effective 4/5/2024.

Filed Date: 4/22/24.

Accession Number: 20240422-5206.

Comment Date: 5 p.m. ET 5/13/24.

Docket Numbers: ER24-1812-000.

Applicants: AES Redondo Beach, L.L.C.

Description: Tariff Amendment: Notice of Cancellation of MBR Tariff to be effective 4/23/2024.

Filed Date: 4/22/24.

Accession Number: 20240422-5226.

Comment Date: 5 p.m. ET 5/13/24.

Docket Numbers: ER24-1813-000.

Applicants: Hoosier Wind Project, LLC.

Description: Tariff Amendment: Notice of Cancellation of MBR Tariff to be effective 4/23/2024.

Filed Date: 4/22/24.

Accession Number: 20240422-5227.

Comment Date: 5 p.m. ET 5/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 22, 2024.
Debbie-Anne A. Reese,
Acting Secretary.

[FR Doc. 2024-08996 Filed 4-25-24; 8:45 am]

BILLING CODE 6717-01-P